DEPARTMENT OF TRANSPORTATION

Federal Aviation Administration

14 CFR Part 39

[Docket No. FAA-2004-18752; Directorate Identifier 2004-NM-107-AD]

RIN 2120-AA64

Airworthiness Directives; Empresa Brasileira de Aeronautica S.A. (EMBRAER) Model EMB-135 and EMB-145 Series Airplanes

AGENCY: Federal Aviation Administration (FAA), DOT.

ACTION: Notice of proposed rulemaking (NPRM).

SUMMARY: The FAA proposes to supersede an existing airworthiness directive (AD) for certain EMBRAER Model EMB-135 and EMB-145 series airplanes. That AD currently requires replacing the nose landing gear wheel nuts and associated inner and outer seals, and reidentifying the landing gear strut. This proposed AD would add an airplane to the applicability and revise a part number for a replacement part. This proposed AD is prompted by a report of an invalid part number for the new nose landing gear wheel nut. We are proposing this AD to prevent separation of the wheels from the nose landing gear due to the failure of the outer wheel bearings, and consequent loss of control of the airplane during takeoff and landing.

DATES: We must receive comments on this proposed AD by September 3, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: room PL-401 on the plaza level of the Nassif Building, 400 Seventh Street, SW., Washington, DC, between 9 a.m. and 5 p.m., Monday through Friday, except Federal holidays.

You can get the service information identified in this proposed AD from Empresa Brasileira de Aeronautica S.A. (EMBRAER), P.O. Box 343—CEP 12.225, Sao Jose dos Campos—SP, Brazil.

You may examine the contents of this AD docket on the Internet at http://dms.dot.gov, or at the Docket Management Facility, U.S. Department of Transportation, 400 Seventh Street, SW., room PL-401, on the plaza level of the Nassif Building, Washington, DC.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18752; Directorate Identifier 2004-NM-107-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 26, 2004, we issued AD 2004-09-15, amendment 39-13604 (69 FR 24940, May 5, 2004), for certain EMBRAER Model EMB-135 and EMB-145 series airplanes. That AD requires replacing the nose landing gear wheel nuts and associated inner and outer seals, and reidentifying the landing gear strut. That AD was prompted by reports that the outer wheel bearings of certain nose landing gear wheels have failed. We issued that AD to prevent separation of the wheels from the nose landing gear due to the failure of the outer wheel bearings, and consequent loss of control of the airplane during takeoff and landing.

Actions Since Existing AD Was Issued

Since we issued AD 2004-09-15, we received a report indicating that a part number (P/N) in the AD was invalid. Due to a typographical error, paragraph (a) of that AD (specified as paragraph (f) of this proposed AD) specifies to replace the nose landing gear wheel nuts “with new wheel nuts, P/N 170-0082.” P/N 170-0082 does not exist; the correct P/N is 1170-0082.

In addition, there is a typographical error in the applicability of AD 2004-09-15. Serial number (S/N) 146375 does not exist; the correct S/N is 145375.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. We have examined the DAC's findings, evaluated all pertinent information, and determined that AD action is necessary for airplanes of this type design that are certificated for operation in the United States.

Therefore, we are proposing this AD, which would supersede AD 2004-09-15 to continue to require replacing the nose landing gear wheel nuts and associated inner and outer seals, and reidentifying the landing gear strut. This proposed AD also would add an airplane to the applicability and revise a part number for a replacement part. The proposed AD would require you to use the service information described in AD 2004-09-15 to perform these actions.

Change to Existing AD

This proposed AD would retain certain requirements of AD 2004-09-15. Since AD 2004-09-15 was issued, the AD format has been revised, and certain paragraphs have been rearranged. As a result, the corresponding paragraph identifiers have changed in this proposed AD, as listed in the following table:

Revised Paragraph Identifiers
Requirement in AD 2004-09-15 | Corresponding requirement in this proposed AD
Paragraph (a) | Paragraph (f).
Paragraph (b) | Paragraph (g).
Paragraph (c) | Paragraph (h).

Costs of Compliance

This proposed AD would affect about 365 airplanes of U.S. registry.

The actions that are required by AD 2004-09-15 and retained in this proposed AD take about 1 work hour per airplane, at an average labor rate of $65 per work hour. Required parts will be provided free of charge by the airplane manufacturer. Based on these figures, the estimated cost of the currently required actions for U.S. operators is $23,725, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13604 (69 FR 24940, May 5, 2004) and adding the following new airworthiness directive (AD):

Empresa Brasileira de Aeronautica S.A. (EMBRAER): Docket No. FAA-2004-18752; Directorate Identifier 2004-NM-107-AD.

Comments Due Date

(a) The Federal Aviation Administration must receive comments on this AD action by September 3, 2004.

Affected ADs

(b) This AD supersedes AD 2004-09-15, amendment 39-13604.

Applicability

(c) This AD applies to Model EMB-135 and -145 series airplanes having serial numbers (S/N) 145003 through 145373 inclusive, 145375, 145377 through 145391 inclusive, and 145393 through 145408 inclusive; certificated in any category; equipped with nose landing gear struts, part number (P/N) 1170C0000-01 (including all modifications), P/N 1170C0000-02, or P/N 1170C0000-03.

Unsafe Condition

(d) This AD was prompted by a report of an invalid part number for the new nose landing gear wheel nut. We are issuing this AD to prevent separation of the wheels from the nose landing gear due to the failure of the outer wheel bearings, and consequent loss of control of the airplane during takeoff and landing.

Compliance

(e) You are responsible for having the actions required by this AD performed within the compliance times specified, unless the actions have already been done.

Replacement and Reidentification

(f) At the applicable time specified in paragraph (f)(1) or (f)(2) of this AD, replace the nose landing gear wheel nuts, P/N 1170-0007, with new wheel nuts, P/N 1170-0082; replace the associated inner and outer seals, P/N 68-1157 or P/N 72-290, with new seals, P/N 68-1498; and reidentify the struts. Do the actions in accordance with the Accomplishment Instructions of EMBRAER Service Bulletin 145-32-0068, Change 04, dated January 20, 2003; or EMBRAER Service Bulletin 145LEG-32-0006, Change 01, dated January 20, 2003; as applicable.

(1) For Model EMB-135 and -145 series airplanes having serial numbers (S/N) 145003 through 145373 inclusive, 145377 through 145391 inclusive, and 145393 through 145408 inclusive: Within 12 months after June 9, 2004 (the effective date of AD 2004-09-15).

(2) For Model EMB-145 series airplane having S/N 145375: Within 12 months after the effective date of this AD.

(g) Actions accomplished before the effective date of this AD per the EMBRAER Service Bulletins listed in Table 1 of this AD are considered acceptable for compliance with the corresponding actions specified in this AD:

Table 1.—Service Bulletins Considered Acceptable for Compliance
EMBRAER service bulletin | Change level | Date
145-32-0068 | Original | May 4, 2001.
145-32-0068 | 01 | Jan. 14, 2002.
145-32-0068 | 02 | Apr. 16, 2002.
145-32-0068 | 03 | Nov. 25, 2002.
145LEG-32-0006 | Original | Nov. 26, 2002.

Parts Installation

(h) As of the effective date of this AD, no person may install nose landing gear wheel nuts, P/N 1170-0007, or the associated inner and outer seals, P/N 68-1157 or P/N 72-290, on any airplane.

Alternative Methods of Compliance (AMOC)

(i) The Manager, International Branch, ANM-116, Transport Airplane Directorate, FAA, has the authority to approve AMOCs for this AD, if requested in accordance with the procedures found in 14 CFR 39.19.

Related Information

(j) Brazilian airworthiness directive 2002-03-01R2, dated April 22, 2003, also addresses the subject of this AD.

Issued in Renton, Washington, on July 27, 2004.
Kyle L. Olsen,
Acting Manager, Transport Airplane Directorate, Aircraft Certification Service.

[FR Doc. 04-17761 Filed 8-3-04; 8:45 am]

BILLING CODE 4910-13-P